DEPARTMENT OF AGRICULTURE

Forest Service

Virginia Resource Advisory Committee

AGENCY: Forest Service, USDA.

ACTION: Notice of meeting.

SUMMARY: The Virginia Resource Advisory Committee will meet in Roanoke, Virginia. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is for the committee to select the chairperson, operating guidelines, the next meeting date and location, and other administrative business.

DATES: The meeting will be held May 13, 2011, 9 a.m..

ADDRESSES: The meeting will be held at the George Washington and Jefferson National Forests Supervisor's Office conference room at 5162 Valleypointe Parkway, Roanoke, Virginia 24019. Written comments may be submitted as described under Supplementary Information.

All comments, including names and addresses when provided, are placed in the record and are available for public inspection and copying. The public may inspect comments received at George Washington and Jefferson National Forest Supervisor's Office at 5162 Valleypointe Parkway, Roanoke, Virginia 24019. Please call ahead to 540-265-5100 to facilitate entry into the building to view comments.

FOR FURTHER INFORMATION CONTACT: Joanne Sanfilippo, Deputy Public Affairs Officer, Supervisor's Office, 540-265-5102, jmsanfilippo@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed for further information.

SUPPLEMENTARY INFORMATION: Anyone who would like to bring related matters to the attention of the committee may file written statements with the committee staff before or after the meeting. The agenda will include time for people to make oral statements of three minutes or less. Individuals wishing to make an oral statement should request in writing by May 9, 2011 to be scheduled on the agenda. Written comments and requests for time for oral comments must be sent to Joanne Sanfilippo, Public Affairs, George Washington and Jefferson National Forests Supervisor's Office at 5162 Valleypointe Parkway, Roanoke, Virginia 24019; or by e-mail to jmsanfilippo@fs.fed.us, or via facsimile to 540-265-5145.

Dated: April 25, 2011.
Kenneth G. Landgraf,
Acting Forest Supervisor.

[FR Doc. 2011-10380 Filed 4-28-11; 8:45 am]

BILLING CODE 3410-11-P